DEPARTMENT OF HOMELAND SECURITY

Coast Guard

[Docket No. USCG-2014-0956]

Merchant Marine Personnel Advisory Committee

AGENCY: Coast Guard, DHS.

ACTION: Notice of Federal Advisory Committee Teleconference Meeting.

SUMMARY: The Merchant Marine Personnel Advisory Committee will meet, via teleconference, to discuss Task Statement 87, concerning review of the policy documents providing guidance on the Coast Guard final rule entitled, “Implementation of the Amendments to the International Convention on Standards of Training, Certification and Watchkeeping for Seafarers, 1978, and Changes to National Endorsements.” This meeting will be open to the public.

DATES: The teleconference meeting will take place on Tuesday, December 9, 2014, from 1 p.m. until 3:30 p.m. Eastern Standard Time. Please note that this meeting may adjourn early if all business is finished.

Written comments for distribution to Committee members and inclusion on the Merchant Marine Personnel Advisory Committee Web site must be submitted on or before November 25, 2014. Contact Mr. Breyer as indicated in the FOR FURTHER INFORMATION CONTACT section of this notice no later than December 3, 2014, to register as a speaker.

ADDRESSES: To participate by phone, contact the Alternate Designated Federal Officer listed below in the FOR FURTHER INFORMATION CONTACT section to obtain teleconference information. Note the number of teleconference lines is limited and will be available on a first-come, first-served basis. To join those participating in this teleconference from U.S. Coast Guard Headquarters, come to Room 6J07-02, 2703 Martin Luther King Jr. Ave. SE., Washington, DC 20593-7509. Due to security at the Coast Guard Headquarters building, members of the public wishing to attend must register, on or before December 3, 2014, with Mr. Davis Breyer, Alternate Designated Federal Officer of the Merchant Marine Personnel Advisory Committee, at (202) 372-1445 or davis.j.breyer@uscg.mil. All visitors to Coast Guard Headquarters must provide identification in the form of a Government issued picture identification card for access to the facility. Please arrive at least 30 minutes before the planned start of the meeting in order to allow time to pass through security.

For information on facilities or services for individuals with disabilities or to request special assistance, contact the Alternate Designated Federal Officer listed below in the FOR FURTHER INFORMATION CONTACT section as soon as possible.

To facilitate public participation, we are inviting public comment on the issues to be considered by the Committee as listed in the “Agenda” section below. Written comments must be identified by Docket No. USCG-2014-0956 and submitted by one of the following methods:

• Federal eRulemaking Portal: http://www.regulations.gov. Follow the instructions for submitting comments (preferred method to avoid delays in processing).

• Fax: 202-493-2251.

• Mail: Docket Management Facility (M-30), U.S. Department of Transportation, West Building Ground Floor, Room W12-140, 1200 New Jersey Avenue SE., Washington, DC 20590-0001.

• Hand delivery: Same as the mail address above, between 9 a.m. and 5 p.m., Monday through Friday, except Federal Holidays. The telephone number is 202-366-9329.

Instructions: All submissions must include the words “Department of Homeland Security” and the docket number for this action. Comments received will be posted without alteration at http://regulations.gov, including any personal information provided. You may review a Privacy Act notice regarding our public dockets in the January 17, 2008, issue of the Federal Register (73 FR 3316).

Docket: For access to the docket to read documents or comments related to this notice, go to http://www.regulations.gov, enter the docket number in the Search box, press enter, and then click on the item you wish to view.

A public oral comment period will be held after the working group report. Speakers are requested to limit their comments to 3 minutes. Please note that the public oral comment period will end following the last call for comments.

This notice may be viewed in our online docket, USCG-2014-0956, at http://www.regulations.gov.

FOR FURTHER INFORMATION CONTACT: Mr. Davis Breyer, Alternate Designated Federal Officer, telephone 202-372-1445, or at davis.j.breyer@uscg.mil.

If you have any questions on viewing or submitting material to the docket, call Cheryl Collins, Program Manager, Docket Operations, telephone 202-366-9826 or 1-800-647-5527.

SUPPLEMENTARY INFORMATION: Notice of this meeting is given under the Federal Advisory Committee Act, Title 5, United States Code, Appendix.

The Merchant Marine Personnel Advisory Committee is an advisory Committee established under the Secretary's authority in section 871 of the Homeland Security Act of 2002, Title 6, United States Code, section 451, and chartered under the provisions of the Federal Advisory Committee Act. The Committee acts solely in an advisory capacity to the Secretary of the Department of Homeland Security through the Commandant of the Coast Guard and the Director of Commercial Regulations and Standards on matters relating to personnel in the U.S. merchant marine, including but not limited to training, qualifications, certification, documentation, and fitness standards. The Committee will advise, consult with, and make recommendations reflecting its independent judgment to the Secretary.

A copy of all meeting documentation is available at https://homeport.uscg.mil by using these key strokes: Missions; Port and Waterways Safety; Advisory Committees; MERPAC; and then use the Announcements key. Alternatively, you may contact Mr. Breyer as noted in the FOR FURTHER INFORMATION CONTACT section above.

Agenda

The agenda for the December 9, 2014, Committee teleconference meeting is as follows:

(1) Introduction;

(2) Roll call of Committee members and determination of a quorum;

(3) Designated Federal Officer announcements;

(4) Report from the Task Statement 87 working group chairperson concerning review of the policy documents providing guidance on the Coast Guard final rule entitled, “Implementation of the Amendments to the International Convention on Standards of Training, Certification and Watchkeeping for Seafarers, 1978, and Changes to National Endorsements”, which was published in the Federal Register on December 24, 2013, (78 FR 77795).

(5) Public comment period/presentations.

(6) Discussion of working group recommendations. The Committee will review the information presented on this issue, deliberate on any recommendations presented by the working group and approve/formulate recommendations for the Department's consideration. Official action on these recommendations may be taken by the committee on this date.

(7) Closing remarks.

(8) Adjournment of meeting.

Dated: October 24, 2014.
J.G. Lantz,
Director of Commercial Regulations and Standards.

[FR Doc. 2014-25686 Filed 10-28-14; 8:45 am]

BILLING CODE 9110-04-P